DEPARTMENT OF COMMERCE

International Trade Administration

[A-570-849]

Cut-to-Length Carbon Steel Plate from the People's Republic of China: Notice of Rescission, in Part, and Preliminary Results of Antidumping Duty Administrative Review

AGENCY: Import Administration, International Trade Administration, Department of Commerce.

SUMMARY: In response to a request from Nucor Corporation, a domestic producer and interested party in this proceeding, the Department of Commerce (“Department”) is conducting an administrative review of cut-to-length carbon steel plate (“CTL plate”) from the People's Republic of China (“PRC”) for the period November 1, 2004, through October 31, 2005. We preliminarily determine that application of adverse facts available (“AFA”) is warranted with respect to the sole company participating in this administrative review, China Metallurgical Import & Export Liaoning Company (“Liaoning Company”). In addition, the Department is preliminarily rescinding the administrative review with respect to Angang New Steel Co., Ltd. and Angang Group Hong Kong Co., Limited (collectively “Angang”), as its request for review was properly and timely withdrawn. If these preliminary results are adopted in our final results of administrative review, we will instruct U.S. Customs and Border Protection (“CBP”) to assess antidumping duties on all appropriate entries of subject merchandise. Interested parties are invited to comment on these preliminary results. We will issue the final results no later than 120 days from the date of publication of this notice.

EFFECTIVE DATE: August 10, 2006.

FOR FURTHER INFORMATION CONTACT: Juanita H. Chen, AD/CVD Operations, Office 8, Import Administration, International Trade Administration, U.S. Department of Commerce, 1401 Constitution Avenue, NW, Washington, DC 20230; telephone: 202-482-1904.

SUPPLEMENTARY INFORMATION:

Background

On November 1, 2005, the Department published a notice of opportunity to request an administrative review of the antidumping duty order on CTL plate from the PRC. See Antidumping or Countervailing Duty Order, Finding, or Suspended Investigation; Opportunity to Request Administrative Review, 70 FR 65883 (November 1, 2005). On November 30, 2005, domestic producer Nucor Corporation (“Nucor”) requested that the Department conduct an administrative review of Liaoning Company. Also on November 20, 2005, Chinese producer Angang requested that the Department conduct an administrative review on the antidumping duty order on CTL plate from the PRC. On December 22, 2005, the Department published a notice of the initiation of this administrative review of CTL plate from the PRC for the period November 1, 2004, through October 31, 2005. See Initiation of Antidumping and Countervailing Duty Administrative Reviews and Request for Revocation in Part, 70 FR 76024 (December 22, 2005).

Angang

On December 27, 2005, the Department issued an antidumping questionnaire to Angang. On February 8 and February 24, 2006, the Department received Angang's responses to Sections A, C and D of the questionnaire. On March 3, 2006, the Department received Angang's FOP reconciliation. On March 1 and March 14, 2006, Nucor submitted comments on Angang's Sections A, C and D responses.

On March 22, 2006, Angang requested an extension of time in which to withdraw its request for an administrative review, which the Department granted until March 29, 2006. On March 29, 2006, Angang timely withdrew its request for an administrative review. On April 10, 2006, Nucor submitted comments on Angang's withdrawal of its request for an administrative review. On May 15, 2006, the Department received a request from Angang to issue liquidation instructions regarding a shipment made during the POR.

Liaoning

On December 27, 2005, the Department issued an antidumping questionnaire to the legal representative for Liaoning Company in a prior segment of this case. On February 1, 2006, the Department sent a letter to the same legal representative concerning Liaoning Company's failure to respond to the Department's questionnaire, and extended the deadline for responding to February 8, 2006. On February 8, 2006, the legal representative submitted a letter to the Department stating that the firm no longer represented Liaoning Company, that the firm had contacted Liaoning Company, and that Liaoning Company wished to inform the Department it would not participate in this administrative review. On April 5, 2006, the Department sent a letter to the legal representative, inquiring whether the firm was authorized by Liaoning Company to act as its representative in notifying the Department that Liaoning Company intended not to participate in this administrative review. On April 17, 2006, the legal representative submitted a letter to the Department confirming that, as the firm no longer represented Liaoning Company, it was no longer authorized to notify the Department as to Liaoning Company's participation status in this administrative review.

On April 18, 2006, the Department issued an antidumping questionnaire directly to Liaoning Company specifying the following deadlines for responding to the various sections of the questionnaire: May 9, 2006 for Section A and May 19, 2006, for Sections C, D, and the Factors of Production and Sales Reconciliations. On May 15, 2006, the Department sent a letter to Liaoning Company concerning its failure to respond to the Department's Section A questionnaire by the due date of May 9, 2006, and extended the deadline for responding to the questionnaire, in its entirety, to May 19, 2006. On May 17, 2006, Liaoning Company requested an extension of time in which to respond to the Department's questionnaire, which the Department granted until May 26, 2006. On May 22, 2006, Liaoning Company submitted its questionnaire response, which the Department rejected on June 15, 2006, for numerous deficiencies, including failure to provide requested information, failure to follow filing procedures and requirements, and failure to serve copies of the submission on parties to the review. In the rejection letter, the Department also provided Liaoning Company with extensive guidance and instructions to assist Liaoning Company in revising its questionnaire response, and gave Liaoning Company until July 6, 2006, to submit a revised questionnaire response. On June 20, 2006, the Department returned the sole copy of the rejected questionnaire response to Liaoning Company. On June 27, 2006, Nucor requested that the Department not grant Liaoning Company any further extensions or opportunities to provide information past the July 6, 2006, deadline, and argued that if the deadline is missed or the revised questionnaire response rejected, the Department should terminate the review of Liaoning Company and apply AFA.

On July 5, 2006, Liaoning Company submitted its revised questionnaire response (“revised response”) to the Department. On July 13, 2006, Nucor filed a letter noting it had not received service of the revised response and requested that the Department terminate the review of Liaoning Company immediately, for its failure to participate. Liaoning Company's revised response, other than adding an index page and a proper case heading to the first page of the Sections A, C and D responses and the appendices, appeared to be identical to the submission rejected by the Department on June 15, 2006. As a result, on July 31, 2006, the Department rejected Liaoning Company's revised response in its entirety, for the same deficiencies under which the prior response was rejected.

Period of Review

The period of review (“POR”) is November 1, 2004, through October 31, 2005.

Scope of the Order

The products covered by this order include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (“HTSUS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included in this order are flat-rolled products of non-rectangular cross-section where such cross-section is achieved subsequent to the rolling process (i.e., products which have been “worked after rolling”) for example, products which have been beveled or rounded at the edges. Excluded from this order is grade X-70 plate. Also excluded from this order is certain carbon cut-to-length steel plate with a maximum thickness of 80 mm in steel grades BS 7191, 355 EM, and 355 EMZ, as amended by Sable Offshore Energy Project specification XB MOO Y 15 0001, types 1 and 2. Although the HTSUS subheadings are provided for convenience and customs purposes, the written description of the scope is dispositive.

Partial Rescission of Review

The Department's regulations at 19 C.F.R. 351.213(d)(1) provide that the Department will rescind an administrative review if the party that requested the review withdraws its request for review within 90 days of the date of publication of the notice of initiation of the requested review, or withdraws its request at a later date if the Department determines that it is reasonable to extend the time limit for withdrawing the request. Nucor alleged in its April 10, 2006, submission that Angang withdrew its request for an administrative review to avoid responding to issues Nucor raised in its comments to Angang's questionnaire responses. However, Angang timely withdrew its request for administrative review within the extended time limit granted by the Department. Accordingly, regardless of the reasons for withdrawal, pursuant to the Department's regulations, the request for withdrawal was proper. As no other party requested that the Department conduct an administrative review of Angang, the Department is preliminarily rescinding the administrative review with respect to Angang, in accordance with 19 C.F.R. 351.213(d)(1).

Non-Market Economy Country Status

In every case conducted by the Department involving the PRC, the PRC has been treated as a non-market economy (“NME”') country. Pursuant to section 771(18)(C)(i) of the Tariff Act of 1930, as amended (“Act”), any determination that a foreign country is an NME country shall remain in effect until revoked by the administering authority. See Freshwater Crawfish Tail Meat from the People's Republic of China: Notice of Final Results of Antidumping Duty Administrative Review, 71 FR 7013 (February 10, 2006). None of the parties to this proceeding has contested such treatment.

Separate Rates Determination

Because the PRC is treated as an NME country for this review, there is a rebuttable presumption that all companies within the PRC are subject to government control and, thus, should be assessed a single antidumping duty rate.

It is the Department's policy to assign all exporters of the merchandise subject to review in an NME country a single rate unless an exporter can demonstrate an absence of government control, both in law (de jure) and in fact (de facto), with respect to exports. To establish whether an exporter is sufficiently independent of government control to be entitled to a separate company-specific rate, the Department analyzes the exporter following the criteria established in the Final Determination of Sales at Less Than Fair Value: Sparklers from the People's Republic of China, 56 FR 20588 (May 6, 1991); and Notice of Final Determination of Sales at Less Than Fair Value: Silicon Carbide from the People's Republic of China, 59 FR 22585 (May 2, 1994). The Department gave Liaoning Company numerous extensions of time and opportunities to submit a proper questionnaire response, and provided detailed guidance and instructions on how to prepare a questionnaire response. Despite these opportunities and assistance, Liaoning Company failed to follow the Department's instructions in submitting its questionnaire response. We find the information provided by Liaoning Company to be incomplete and unreliable, and are therefore, unable to perform a separate rates analysis. As a result, Liaoning Company has not demonstrated that it is entitled to a separate rate. Accordingly, we preliminarily find that Liaoning Company is part of the PRC-wide entity, as discussed, infra.

The PRC-Wide Rate and Adverse Facts Available

Section 776(a)(1) of the Act mandates that the Department shall, subject to section 782(d) of the Act, use facts otherwise available in reaching its determination if the necessary information is not available on the record of an antidumping proceeding. In addition, section 776(a)(2) of the Act states that the Department shall use facts otherwise available when an interested party or any other person: (A) withholds information requested by the Department; (B) fails to provide the requested information by the requested date or in the form and manner requested; (C) significantly impedes an antidumping proceeding; or (D) provides information that cannot be verified. In the instant review, the Department gave Liaoning Company multiple opportunities pursuant to section 782(d) of the Act to provide the requested information and remedy or explain the deficiencies pointed out in its submissions. Pursuant to section 782(e) of the Act, the Department must consider information submitted by an interested party if all of the following criteria are met: (1) The information is submitted by the deadline established for its submission; (2) the information can be verified; (3) the information is not so incomplete that it cannot serve as a reliable basis for reaching the applicable determination; (4) the interested party has demonstrated that it acted to the best of its ability in providing the information and meeting the requirements established by the Department with respect to the information; and (5) the information can be used without undue difficulties.

Liaoning Company has failed to meet any of these criteria. Liaoning Company missed the deadlines set for its questionnaire response submissions. Nevertheless, the Department gave Liaoning Company additional opportunities to submit a response. However, despite these additional opportunities, Liaoning Company failed to adequately correct its deficiencies and submitted a questionnaire response so incomplete that the information could not be used or verified in this administrative review. The original questionnaire response lacked proper case header information, did not include the proper number of copies, was not served upon interested parties, failed to include requested narrative detail and descriptions, provided little supporting paperwork and documentation, failed to include detailed product and sales information, declined to provide factors of production by deferring to data submitted by other companies in other proceedings and not on the record of this review, failed to include electronic U.S. sales and factors of production information, and failed to provide reconciliation worksheets, among other discrepancies. See Letter from Department of Commerce to Liaoning Company, dated June 15, 2006 (“Opportunity to Revise Letter”).

Finally, Liaoning Company failed to demonstrate that it acted to the best of its ability in providing the information, as Liaoning Company made no effort to follow the specific, detailed instructions provided by the Department in revising its questionnaire response. As previously noted, although Liaoning Company's original response was severely deficient, the Department provided Liaoning Company an opportunity to revise its response and gave extensive instructions to assist Liaoning Company in revising its questionnaire response. See Opportunity to Revise Letter. The Department included copies of our regulations explaining our classification of information, and filing, service and certification requirements, the public and proprietary service lists, as well as the General Instructions to the questionnaire, with the Opportunity to Revise Letter. Id. at Attachments 1 through 4. The Department also requested that Liaoning Company contact the reviewing analyst if it had any questions regarding the revised response. Id. at 4. Liaoning Company failed to follow the Department's instructions and did not contact the reviewing analyst (or any Department official) regarding revising its questionnaire response. When Liaoning Company submitted its revised response, it had added an index page and followed the Department's request to properly include a case heading in the upper right hand corner (pursuant to instruction 1 of the Opportunity to Revise Letter) and to properly address the revised response (pursuant to instruction 2 of the Opportunity to Revise Letter). Other than these minor revisions, however, Liaoning Company's revised response appeared to be identical to the original submission rejected by the Department, with the same deficiency of information, and the same filing format and service deficiencies. See Letter from Department of Commerce to Liaoning Company, dated July 31, 2006. These deficiencies in the revised response, in view of the Department's detailed instructions and guidance, indicate that Liaoning Company did not act to the best of its ability in providing the requested information. Furthermore, as discussed above, it is appropriate to consider Liaoning Company part of the PRC-wide entity. Accordingly, pursuant to section 776(a) of the Act, the margin for the PRC-wide entity (including Liaoning Company) must be based on facts otherwise available.

In selecting from among the facts otherwise available, section 776(b) of the Act provides that if an interested party fails to cooperate by not acting to the best of its ability to comply with a request for information, the Department may use an inference that is adverse to the interests of the party. An adverse inference is appropriate “to ensure that the party does not obtain a more favorable result by failing to cooperate than if it had cooperated fully.” See Statement of Administrative Action (“SAA”) accompanying the Uruguay Round Agreements Act, H. Doc. No. 103-316, at 870 (1994). Section 776(b) of the Act states that, in applying AFA, such an adverse inference may include reliance on information derived from the petition, a final determination in an antidumping investigation or review, or any other information placed on the record. Because Liaoning Company failed to adequately respond to our questionnaire, and made no effort to follow the specific, detailed instructions provided by the Department in revising its questionnaire response, we preliminarily determine that the PRC-wide entity, including Liaoning Company, did not act to the best of its ability to comply with the Department's requests. Therefore, pursuant to section 776(b) of the Act, we are preliminarily basing the margin for the PRC-wide entity on AFA.

The Department's practice in reviews is to select, as an AFA rate, the highest rate determined for any respondent in any segment of the proceeding. See, e.g., Notice of Final Results of Antidumping Duty Administrative Review and Final Partial Rescission: Certain Cut-to-Length Carbon Steel Plate from Romania, 71 FR 7008, 7010-11 (February 10, 2006), and accompanying Issues and Decision Memorandum, at Issue 1; Freshwater Crawfish Tail Meat from the People's Republic of China; Notice of Final Results of Antidumping Duty Administrative Review, 68 FR 19504, 19506 (April 21, 2003) (citing Freshwater Crawfish Tail Meat from the People's Republic of China; Notice of Final Results of Antidumping Duty Administrative Review, and Final Partial Rescission of Antidumping Duty Administrative Review, 67 FR 19546 (April 22, 2002)). The courts have consistently upheld this practice. See Ta Chen Stainless Steel Pipe, Inc. v. United States, 298 F.3d 1330,1339 (Fed. Cir. 2002); Sigma Corp. v. U.S., 117 F.3rd 1401, 1411 (Fed. Cir. 1997) (stating that the Department has a “long standing practice of assigning to respondents who fail to cooperate with Commerce's investigation the highest margin calculated for any party in the less-than-fair-value investigation or in any administrative review”); NSK Ltd. v. United States, 346 F. Supp. 2d 1312, 1335 (CIT 2004) (upholding a 73.55 percent total AFA rate, the highest available dumping margin from a different respondent in a less-than-fair-value (“LTFV”) investigation); Kompass Food Trading Int'l v. United States, 24 CIT 678, 682-84 (2000) (upholding a 51.16 percent total AFA rate, the highest available dumping margin from a different, fully cooperative respondent); Shanghai Taoen International Trading Co., Ltd. v. United States, 360 F. Supp. 2d. 1339, 1347-48 (CIT 2005) (upholding a 223.01 percent total AFA rate, the highest available dumping margin from a different respondent in a previous administrative review).

The Department's practice, when selecting an AFA rate from among the possible sources of information, is to ensure that the margin is sufficiently adverse “as to effectuate the statutory purposes of the adverse facts available rule to induce respondents to provide the Department with complete and accurate information in a timely manner.” See, e.g., Carbon and Certain Alloy Steel Wire Rod from Brazil: Notice of Final Determination of Sales at Less Than Fair Value and Final Negative Critical Circumstances, 67 FR 55792 (August 30, 2002); Static Random Access Memory Semiconductors from Taiwan: Final Determination of Sales at Less than Fair Value, 63 FR 8909 (February 23, 1998).

In accordance with the Department's practice, we are preliminarily applying as AFA to the PRC-wide entity (including Liaoning Company) the rate of 128.59 percent, which is the rate currently applicable to the PRC-wide entity and is a rate calculated for another respondent in the LTFV investigation. See Final Determination of Sales at Less Than Fair Value: Certain Cut-to-Length Carbon Steel Plate From the People's Republic of China, 62 FR 61964, 61966 (November 20, 1997). This rate reflects the Department's practice of selecting the highest rate determined for any respondent in any segment of the proceeding as AFA and is sufficiently adverse to effectuate the purpose of AFA.

Corroboration of Secondary Information

Section 776(c) of the Act provides that when the Department relies on the facts otherwise available and uses “secondary information,” the Department shall, to the extent practicable, corroborate that information from independent sources reasonably at its disposal. Secondary information is defined in the SAA as “{i}nformation derived from the petition that gave rise to the investigation or review, the final determination concerning subject merchandise, or any previous review under section 751 concerning the subject merchandise.” See SAA at 870. The SAA also states that to “corroborate” the Department must satisfy itself that the secondary information to be used has probative value. Id.

To corroborate secondary information, the Department will consider the reliability and relevance of the information used. In an administrative review, if the Department selects as AFA a calculated dumping margin from a prior segment of the proceeding, it is not necessary to question the reliability of that margin. See Anhydrous Sodium Metasilicate from France: Preliminary Results of Antidumping Duty Administrative Review, 68 FR 44283 (July 28, 2003) (unchanged in final). However, the Department will consider information reasonably at its disposal to determine whether that margin continues to have relevance. Where circumstances indicate that the selected margin is not appropriate as AFA, the Department will disregard the margin and determine an appropriate margin. See, e.g., Fresh Cut Flowers from Mexico: Final Results of Antidumping Administrative Review, 61 FR 6812 (February 22, 1996) (the Department disregarded the highest margin as AFA because the margin was based on another company's uncharacteristic business expense resulting in an unusually high margin). Similarly, the Department does not apply a margin that has been discredited. D&L Supply Co. v. United States, 113 F.3d 1220, 1221 (Fed. Cir. 1997) (the Department will not use a margin that has been judicially invalidated). None of these circumstances are present here. The information used in calculating this margin was based on data submitted by the respondents in the LTFV investigation, along with the most appropriate surrogate value information submitted by the parties and gathered by the Department in the LTFV investigation. Furthermore, the calculation of this margin was subject to comment from interested parties in the LTFV investigation proceeding. As the only source for calculated margins is administrative determinations, it is not necessary to question the reliability of a calculated dumping margin from a prior segment of the proceeding. As for the relevance of the rate selected, this rate is the rate currently applicable to the PRC-wide entity. Moreover, no information has been presented in the current review that calls into question the relevance of this information. As there is no information on the record of this review that demonstrates that this rate is not appropriately used as AFA, we determine that this rate has relevance.

Based on our analysis, we find that the margin of 128.59 percent is both reliable and relevant and, as a result, we determine that this rate has probative value. Accordingly, we determine that the calculated rate of 128.59 percent, which is the current PRC-wide rate, is in accordance with section 776(c) of the Act, which requires that secondary information be corroborated to the extent practicable (i.e., that it have probative value). As a result, the Department determines that this rate is corroborated to the extent practicable for the purposes of this administrative review and may reasonably be applied to the PRC-wide entity, based on Liaoning Company's failure to cooperate to the best of its ability in this administrative review, as the total AFA rate. Consequently, we have assigned this AFA rate to exports of the subject merchandise from all companies subject to the PRC-wide rate, including Liaoning Company.

Preliminary Results of Review

As a result of our review, we preliminarily determine that a weighted-average dumping margin of 128.59 exists for the PRC-wide entity for the period November 1, 2004, through October 31, 2005. For Angang, we preliminarily rescind the administrative review.

Interested parties may submit written comments (“case briefs”) to be received by the Department no later than 30 days after the date of publication of these preliminary results. See 19 C.F.R. 351.309(c)(ii). Rebuttal comments (“rebuttal briefs”), which must be limited to issues raised in the case briefs, may be filed with the Department no later than 37 days after the date of publication of this notice. See 19 C.F.R. 351.309(d).

Any interested party may request a hearing within 30 days of publication of these preliminary results. See 19 C.F.R. 351.310(c). Any request for a hearing should contain the following information: 1) the party's name, address, and telephone number; 2) the number of participants; and 3) a list of the issues to be discussed. Any hearing, if requested, shall be held two working days after the deadline for submission of the rebuttal briefs. See 19 C.F.R. 351.310(d). Any hearing, if held, will be take place at the U.S. Department of Commerce, 1401 Constitution Avenue, NW, Washington, DC 20230. Oral presentations will be limited to issues raised in the briefs.

The Department will publish a notice of the final results of this administrative review, which will include the results of its analysis of issues raised by the parties, within 120 days of publication of these preliminary results. See 19 C.F.R. 351.213(h).

Assessment Rates

On May 15, 2006, the Department received a request from Angang to issue liquidation instructions clarifying that the sole shipment of merchandise exported jointly by Angang Group Hong Kong Co. Limited and Angang Group International Trade Corporation be liquidated at the current 30.68 percent cash deposit rate assigned to Anshan Iron & Steel Complex, Angang International Trade Corporation, and Sincerely Asia, Limited, from the original LTFV investigation and subsequent antidumping duty order. However, as Angang withdrew its request for review and the Department did not have an opportunity to conduct an analysis of Angang's shipments or relationship with Angang Group International Trade Corporation for the POR, the Department cannot issue specific liquidation instructions with regard to this shipment.

Upon issuance of the final results, the Department will determine, and CBP shall assess, antidumping duties on all appropriate entries. Because the Department is applying AFA to all exports of subject merchandise exported by the PRC-wide entity, including Liaoning Company, we will instruct CBP to liquidate entries according to the AFA ad valorem rate for all importers. The Department will issue appropriate assessment instructions directly to CBP within 15 days of publication of the final results of this administrative review.

Cash-Deposit Requirements

The following cash-deposit requirements will be effective upon publication of the final results of this administrative review for all shipments of CTL plate from the PRC entered, or withdrawn from warehouse, for consumption on or after the publication date, as provided for by section 751(a)(2)(C) of the Act: (1) for previously investigated or reviewed companies not subject to this review that have separate rates, the cash-deposit rate will continue to be the company-specific rate published in the most recent proceeding prior to this administrative review; (2) for all other PRC exporters, including Liaoning Company, the cash-deposit rate will be 128.59 percent; and (3) for all other non-PRC exporters, the cash-deposit rate will be the rate applicable to the PRC exporter that supplied that exporter. These cash deposit requirements, when imposed, shall remain in effect until publication of the final results of the next administrative review.

Notification to Importers

This notice also serves as a preliminary reminder to importers of their responsibility under 19 C.F.R. 351.402(f) to file a certificate regarding the reimbursement of antidumping duties prior to liquidation of the relevant entries during this review period. Failure to comply with this requirement could result in the Secretary's presumption that reimbursement of antidumping duties occurred and the subsequent assessment of double antidumping duties.

We are issuing and publishing these preliminary results of administrative review in accordance with sections 751(a)(1) and 777(i)(1) of the Act, as well as 19 C.F.R. 351.221(b)(4) and 19 C.F.R. 351.213(d)(4).

Dated: August 2, 2006.
David M. Spooner,
Assistant Secretary for Import Administration.

[FR Doc. E6-13038 Filed 8-9-06; 8:45 am]

BILLING CODE 3510-DS-S